DEPARTMENT OF ENERGY

Federal Energy Regulatory Commission

[Docket No. EL00-97-000]

Reliant Energy Power Generation, Inc., Dynegy Power Marketing, Inc., and Southern Energy California, L.L.C., Complainants v. California Independent System Operator Corporation, Respondent; Notice of Complaint

August 4, 2000.

Take notice that on August 3, 2000, Reliant Energy Power Generation, Inc., Dynegy Power Marketing, Inc., and Southern Energy California, L.L.C. (Complainants), tendered for filing a complaint against the California Independent Systems Operator Corporation (CAISO) alleging that the CAISO's failure to provide a mechanism by which generators will be fully compensated for curtailed exports is unjust and unreasonable. Complainants request that the Commission find that the CAISO must compensate participating generators, scheduling coordinators or other sellers for any actual damages and for lost opportunity costs in the event that the CAISO curtails a market participant's export schedule in response to conditions within the CAISO Control Area. Complainants further request, in light of the severe economic and practical impact on market participants and markets presented by the current uncertainty on this issue, that the Commission act as quickly as possible.

Copies of the filing were served upon the CAISO and other interested parties.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before August 14, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answers to the complaint shall also be due on or before August 14, 2000.

David P. Boergers,
Secretary.

[FR Doc. 00-20196 Filed 8-9-00; 8:45 am]

BILLING CODE 6717-01-M